Title 3—

The President

Proclamation 7795 of June 4, 2004

Great Outdoors Month, 2004

By the President of the United States of America

A Proclamation

More than 200 years ago, Captains Meriwether Lewis and William Clark embarked upon an expedition to explore uncharted lands and find passage across the Rocky Mountains to the Pacific Ocean. During the Captains' journey, their Corps of Discovery encountered remarkable landscapes, observed wildlife, and traded with American Indians. Two years into his experience, Captain Lewis was inspired by the beauty of a waterfall along the Missouri River that he called in his journal, “the grandest sight I ever beheld.” Today, the splendor of the great outdoors continues to inspire our citizens, and a love of outdoor recreation remains a fundamental part of the American character. By observing Great Outdoors Month, we celebrate our commitment to appreciating and protecting our natural wealth.

Outdoor recreation is an ideal way to exercise and enjoy memorable experiences with family and friends, and all across our country are scenic places that sports and nature enthusiasts can explore and help keep beautiful. During Great Outdoors Month and throughout the year, I encourage Americans to go camping, fishing, hunting, hiking, bird watching, boating, or to participate in other outdoor activities that are part of a healthy lifestyle.

The true strength of our Nation lies in the hearts and souls of our citizens, and I urge all Americans not only to visit our parks and recreation areas, but also to volunteer their time and talents to help maintain the beauty of our environment. Good stewardship of the environment is not just a personal responsibility, it is a public value; and citizens who lend a hand to local parks and public lands are vital to the preservation of our Nation's many special places. Americans can take pride in the remarkable progress we continue to make in conserving our environment and natural resources.

NOW, THEREFORE, I, GEORGE W. BUSH, President of the United States of America, by virtue of the authority vested in me by the Constitution and laws of the United States, do hereby proclaim June 2004 as Great Outdoors Month. I call upon the people of the United States to observe this month with appropriate ceremonies and activities and to participate in safe and enjoyable outdoor recreation.

IN WITNESS WHEREOF, I have hereunto set my hand this fourth day of June, in the year of our Lord two thousand four, and of the Independence of the United States of America the two hundred and twenty-eighth.

B

[FR Doc. 04-13242

Filed 6-8-04; 9:36 am]

Billing code 3195-01-P